NUCLEAR REGULATORY COMMISSION

713th Meeting of the Advisory Committee on Reactor Safeguards (ACRS)

In accordance with the purposes of Sections 29 and 182b of the Atomic Energy Act (42 U.S.C. 2039, 2232(b)), the Advisory Committee on Reactor Safeguards (ACRS) will hold meetings on March 6-8, 2024. The Committee will be conducting meetings that will include some Members being physically present at the NRC while other Members participate remotely. Interested members of the public are encouraged to participate remotely in any open sessions via MS Teams or via phone at 301-576-2978, passcode 734707940#. A more detailed agenda including the MSTeams link may be found at the ACRS public website at https://www.nrc.gov/reading-rm/doc-collections/acrs/agenda/index.html. If you would like the MSTeams link forwarded to you, please contact the Designated Federal Officer as follows: Quynh.Nguyen@nrc.gov, or Lawrence.Burkhart@nrc.gov.

Wednesday, March 6, 2024

8:30 a.m.-8:35 a.m.: Opening Remarks by the ACRS Chair (Open)—The ACRS Chairman will make opening remarks regarding the conduct of the meeting.

8:35 a.m.-10:30 a.m.: Draft Final Branch Technical Position (BTP) 7-19, Revision 9, “Guidance for Evaluation of Diversity and Defense-in-Depth to Address Common Cause Failure Due to Latent Design Effects in Digital Computer-Based Instrumentation and Control Systems” (Open)—The Committee will have presentations and discussion with the NRC staff regarding the subject topic.

10:30 a.m.-1:00 p.m.: Committee Deliberation on Draft Final BTP 7-19, Revision 9 (Open)—The Committee will have deliberations regarding the subject topic.

1:00 p.m.-3:00 p.m.: Review of NRC Research Program—Artificial Intelligence and Machine Learning in Non-Destructive Examination and In-Service Inspection Activities (Open)—The Committee will have presentations and discussion with the NRC staff regarding the subject topic.

3:00 p.m.-6:00 p.m.: Preparation of Reports (Open)—The Committee will continue its discussion of proposed ACRS reports.

Thursday, March 7, 2024

8:30 a.m.-10:30 a.m.: Planning and Procedures Session/Future ACRS Activities/Reconciliation of ACRS Comments and Recommendations/Preparation of Reports (Open/Closed)—The Committee will hear discussion of the recommendations of the Planning and Procedures Subcommittee regarding items proposed for consideration by the Full Committee during future ACRS meetings, and/or proceed to preparation of reports as determined by the Chairman. [NOTE: Pursuant to 5 U.S.C. 552b(c)(2), a portion of this meeting may be closed to discuss organizational and personnel matters that relate solely to internal personnel rules and practices of the ACRS.]

[NOTE: Pursuant to 5 U.S.C. 552b(c)(4), a portion of this session may be closed in order to discuss and protect information designated as proprietary.]

10:30 a.m.-2:00 p.m.: Review of NRC Research Program—High Energy Arc Fault(Open)—The Committee will have presentations and discussion with the NRC staff regarding the subject topic.

2:00 p.m.-6:00 p.m.: Preparation of Reports(Open)—The Committee will continue its discussion of proposed ACRS reports.

Friday, March 8, 2024

8:30 a.m.-6:00 p.m.: Preparation of Reports(Open)—The Committee will continue its discussion of proposed ACRS reports.

Procedures for the conduct of and participation in ACRS meetings were published in the Federal Register on June 13, 2019 (84 FR 27662). In accordance with those procedures, oral or written views may be presented by members of the public, including representatives of the nuclear industry. Persons desiring to make oral statements should notify Quynh Nguyen, Cognizant ACRS Staff and the Designated Federal Officer (Telephone: 301-415-5844, Email: Quynh.Nguyen@nrc.gov), 5 days before the meeting, if possible, so that appropriate arrangements can be made to allow necessary time during the meeting for such statements. In view of the possibility that the schedule for ACRS meetings may be adjusted by the Chairman as necessary to facilitate the conduct of the meeting, persons planning to attend should check with the cognizant ACRS staff if such rescheduling would result in major inconvenience.

An electronic copy of each presentation should be emailed to the cognizant ACRS staff at least one day before the meeting.

In accordance with subsection 10(d) of Public Law 92-463 and 5 U.S.C. 552b(c), certain portions of this meeting may be closed, as specifically noted above. Use of still, motion picture, and television cameras during the meeting may be limited to selected portions of the meeting as determined by the Chairman. Electronic recordings will be permitted only during the open portions of the meeting.

ACRS meeting agendas, meeting transcripts, and letter reports are available through the NRC Public Document Room (PDR) at pdr.resource@nrc.gov, or by calling the PDR at 1-800-397-4209, or from the Publicly Available Records System component of NRC's Agencywide Documents Access and Management System, which is accessible from the NRC website at https://www.nrc.gov/reading-rm/adams.html or https://www.nrc.gov/reading-rm/doc-collections/#ACRS/.

Dated: February 13, 2024.
Russell E. Chazell,
Federal Advisory Committee Management Officer, Office of the Secretary.

[FR Doc. 2024-03236 Filed 2-15-24; 8:45 am]

BILLING CODE 7590-01-P